DEPARTMENT OF THE INTERIOR

National Park Service

[N6745; NPS-WASO-NAGPRA-NPS0041464; PPWOCRADN0-PCU00RP14.R50000]

Notice of Inventory Completion: Department of Anthropology, University of South Florida, Tampa, FL

AGENCY: National Park Service, Interior.

ACTION: Notice.

SUMMARY: In accordance with the Native American Graves Protection and Repatriation Act (NAGPRA), the Department of Anthropology, University of South Florida has completed an inventory of human remains and has determined that there is a cultural affiliation between the human remains and Indian Tribes or Native Hawaiian organizations in this notice.

DATES: Repatriation of the human remains in this notice may occur on or after January 20, 2026.

ADDRESSES: Send written requests for repatriation of the human remains in this notice to Thomas J. Pluckhahn, Department of Anthropology, University of South Florida, 4202 E Fowler Avenue, SOC 107, Tampa, FL 33620-8100, email tpluckhahn@usf.edu.

SUPPLEMENTARY INFORMATION: This notice is published as part of the National Park Service's administrative responsibilities under NAGPRA. The determinations in this notice are the sole responsibility of the Department of Anthropology, University of South Florida and additional information on the determinations in this notice, including the results of consultation, can be found in its inventory or related records. The National Park Service is not responsible for the determinations in this notice.

Abstract of Information Available

Human remains representing, at least, one individual have been identified. No associated funerary objects are present. The remains were excavated from the Trenner Site (8PI2250) in Pinellas County, FL, in 2009 under the supervision of Jeff Moates, then the Director of the Central and West Central Regions of the Florida Public Archaeology Network (FPAN) (hosted by the University of South Florida). FPAN had been asked to assist with investigations being conducted by a Scout troop in Weaver Park, in the city of Dunedin. The remains were identified during a recent re-inventory of materials collected from the excavation. The Trenner site is assumed to date to the late precolonial Safety Harbor period (ca. 1,000 to 500 years before present), based on ceramic types represented. We are not aware of the presence of any potentially hazardous substances used to treat any of the human remains.

Cultural Affiliation

Based on the information available and the results of consultation, cultural affiliation is reasonably identified by the geographical location or acquisition history of the human remains described in this notice.

Determinations

The Department of Anthropology, University of South Florida have determined that:

• The human remains described in this notice represent the physical remains of one individual of Native American ancestry.

• There is a connection between the human remains described in this notice and the Miccosukee Tribe of Indians; Seminole Tribe of Florida; and The Seminole Nation of Oklahoma.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after January 20, 2026. If competing requests for repatriation are received, the Department of Anthropology, University of South Florida must determine the most appropriate requestor prior to repatriation. Requests for joint repatriation of the human remains are considered a single request and not competing requests. The Department of Anthropology, University of South Florida is responsible for sending a copy of this notice to the Indian Tribes and Native Hawaiian organizations identified in this notice and any other consulting parties.

Authority: Native American Graves Protection and Repatriation Act, 25 U.S.C. 3003, and the implementing regulations, 43 CFR 10.10.

Dated: November 25, 2025.
Melanie O'Brien,
Manager, National NAGPRA Program.

[FR Doc. 2025-23146 Filed 12-17-25; 8:45 am]

BILLING CODE 4312-52-P